ENVIRONMENTAL PROTECTION AGENCY

[ER-FRL-8985-9]

Environmental Impacts Statements; Notice of Availability

Responsible Agency: Office of Federal Activities, General Information (202) 564-1399 or http://www.epa.gov/compliance/nepa/.

Weekly receipt of Environmental Impact Statements

Filed 11/16/2009 through 11/20/2009 Pursuant to 40 CFR 1506.9.

EIS No. 20090398, Final EIS, BPA, WA, Chief Joseph Hatchery Program, Construction, Operation and Maintenance of a Chinook Salmon Hatchery Production Program, Confederated Tribes of the Colville Reservation (Colville Tribes), Okanogan River and Columbia River, Okanogan County, WA, Wait Period Ends: 12/28/2009, Contact: Mickey Carter 503-230-5885.

EIS No. 20090399, Final EIS, NPS, 00, PROGRAMMATIC—Servicewide Benefits Sharing Project, To Clarify the Rights and Responsibilities of Researchers and National Park Service (NPS) Management in Connection with the Use of Valuable Discoveries, Inventions, and Other Developments, across the United States, Wait Period Ends: 12/28/2009, Contact: Susan M. Mills 307-344-2515.

EIS No. 20090400, Draft EIS, AFS, WI, Twin Ghost Project, Proposes to Implement Vegetation and Transportation Management Activities, Great Divide Ranger District, Chequamegon-Nicolet National Forest, Ashland, Bayfield, Sawyer Counties, WI, Comment Period Ends: 01/11/2010, Contact: Debra Proctor 715-634-4821.

EIS No. 20090401, Final EIS, IBR, CA, Delta-Mendota Canal/California Aqueduct Intertie Project, Construction and Operation of a Pumping Plant and Pipeline Connection, San Luis Delta-Mendota Water Authority Project, Central Valley Project, Alameda and San Joaquin Counties, CA, Wait Period Ends: 12/28/2009, Contact: Erika Kegel 916-978-5081.

EIS No. 20090402, Draft EIS, NRC, MN, Generic—License Renewal of Nuclear Plants for the Prairie Island Nuclear Generating Plant, Units 1 and 2, Supplement 39, NUREG-1437, Implementation, City of Red Wing, Dakota County, MN, Comment Period Ends: 01/29/2010, Contact: Elaine M. Keegan 301-415-8517.

EIS No. 20090403, Draft EIS, IBWC, TX, Presidio Flood Control Project, Flood Control Improvements and Partial Levee Relocation, Presidio, TX, Comment Period Ends: 01/12/2010, Contact: Daniel Borunda 915-832-4767.

EIS No. 20090404, Final EIS, FAA, CA, ADOPTION—BART-Oakland International Airport Connector, extending South from the existing Coliseum BART Station, about 3.2 miles, to the Airport Terminal Area, Alameda County, CA, Wait Period Ends: 12/28/2009, Contact: Peter F. Ciesla 310-725-3612.

The U.S. Department of Transportation, Federal Aviation Administration has adopted the U.S. Department of Transportation, Federal Transit Administration's FEIS #20020140 filed 04/05/2002. Federal Aviation Administration was not a Cooperating Agency on the above FEIS. Under Section 1506.3(b) of the CEQ Regulations, the FEIS must be Recirculated for a 30-day Wait Period.

EIS No. 20090405, Draft EIS, AFS, SD, Norbeck Wildlife Project, Proposing to Manage Vegetation to Benefit Game Animals and Birds, Black Hills National Forest, Custer and Pennington Counties, SD, Comment Period Ends: 01/11/2010, Contact: Kelly Honors 605-673-4853.

Amended Notices

EIS No. 20090378, Draft EIS, COE, MN, NorthMet Project, Proposes to Construct and Operate an Open Pit Mine and Processing Facility, Located in Hoyt Lakes—Babbitt Area of St. Louis County, MN, Comment Period Ends: 02/03/2010, Contact: Jon K. Ahlness 651-290-5381 Revision to FR Notice Published 11/06/2009: Correction to Comment Period from 02/02/2010 to 02/03/2010.

EIS No. 20090394, Draft EIS, USN, GU, Guam and Commonwealth of the Northern Mariana Islands (CNMI) Military Relocation, Proposed Relocating Marines from Okinawa, Visiting Aircraft Carrier Berthing, and Army Air and Missile Defense Task Force, Implementation, GU, Comment Period Ends: 02/17/2010, Contact: Kyle Fujimoto 808-472-1442. Revision to FR Notice Published 11/20/2009: Correction to Comment Period from 02/18/2010 to 02/17/2010.

Dated: November 23, 2009.
Robert W. Hargrove,
Director, NEPA Compliance Division, Office of Federal Activities.

[FR Doc. E9-28414 Filed 11-25-09; 8:45 am]

BILLING CODE 6560-50-P